DEPARTMENT OF COMMERCE

National Oceanic and Atmospheric Administration

RIN 0649-XG086

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one-day meeting of its Shrimp Advisory Panel.

DATES: The meeting will convene on Thursday, April 5, 2018, from 8:30 a.m. to 5 p.m. EDT.

ADDRESSES: The meeting will take place at the Gulf Council office.

Council address: Gulf of Mexico Fishery Management Council, 2203 N Lois Avenue, Suite 1100, Tampa, FL 33607; telephone: (813) 348-1630.

FOR FURTHER INFORMATION CONTACT: Dr. Morgan Kilgour, Fishery Biologist, Gulf of Mexico Fishery Management Council; morgan.kilgour@gulfcouncil.org, telephone: (813) 348-1630.

SUPPLEMENTARY INFORMATION:

Thursday, April 5, 2018; 8:30 a.m.-5 p.m., EDT

I. Agenda

II. Approval of minutes from March 3, 2016 meeting

III. Plan of work

IV. Biological review of the Texas closure

V. Review of the new stock assessments for brown, white and pink shrimp

a. Update on shrimp catch, effort, CPUE, turtle threshold update, and juvenile red snapper effort threshold

VI. Review of the Ph.D. of Coral Amendment 9

a. SSC recommendations

b. LETC recommendations

VII. Other Business

a. Discussion of hurricane(s) impact on shrimp industry

b. Discussion of SPGM permit renewal process

— Meeting Adjourns—

You may register for Shrimp Advisory Panel meeting on Thursday, April 5, 2018 at: https://attendee.gotowebinar.com/register/3132249531534668290.

The Agenda is subject to change, and the latest version along with other meeting materials will be posted on the Council's file server. To access the file server, the URL is https://public.gulfcouncil.org:5001/webman/index.cgi, or go to the Council's website and click on the FTP link in the lower left of the Council website (http://www.gulfcouncil.org). The username and password are both “gulfguest”. Click on the “Library Folder”, then scroll down to “AP Meeting_Shrimp-2018-04”.

The meeting will be webcast over the internet. A link to the webcast will be available on the Council's website, http://www.gulfcouncil.org.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: March 14, 2018.
Tracey L. Thompson,
Acting Deputy Director, Office of Sustainable Fisheries, National Marine Fisheries Service.

[FR Doc. 2018-05475 Filed 3-16-18; 8:45 am]

BILLING CODE 3510-22-P